DEPARTMENT OF THE INTERIOR

Fish and Wildlife Service

Notice of Emergency Exemption Issuance of Endangered Species Recovery Permit

AGENCY: Fish and Wildlife Service, Interior.

ACTION: Notice of emergency exemption issuance.

SUMMARY: The following applicant has been issued a scientific research permit to conduct certain activities with an endangered species pursuant to section 10(a)(1)(A) of the Endangered Species Act of 1973, as amended (16 USC 1531 et seq.).

FOR FURTHER INFORMATION CONTACT: Linda Belluomini, Permits Biologist at 503-231-2063.

SUPPLEMENTARY INFORMATION: The Washington Department of Fish and Wildlife (WDFW) has been authorized via permit number TE-050644, by the U.S. Fish and Wildlife Service's Pacific Region, to increase, the area in which it surveys, captures, and handles individuals from the Columbia Basin distinct population segment of the pygmy rabbit (Brachylagus idahoensis; pygmy rabbit), and to maintain firebreaks located in their habitat in conjunction with research, a captive propagation program, and to reduce the likelihood of catastrophic fire throughout the species range. We issued this permit for the purpose of enhancing the propagation and survival of the pygmy rabbit. The 30-day public comment period required by the Endangered Species Act (Act) was waived in accordance with section 10(c) of the Act upon a determination that an emergency affecting the health and life of specimens of pygmy rabbit exists, and that no reasonable alternative is available to the applicant.

The pygmy rabbit has undergone dramatic annual declines since 1998, and the entire wild portion of this population now consists of fewer than 50 individuals from just 1 known colony on State land in Douglas County, Washington. As part of a captive breeding program, initiated by the WDFW during the spring of 2001, an additional 14 individuals from this population are being held in captivity, including 5 offspring born at the holding facility. The capture of additional animals from the wild, throughout the species range, will help to ensure genetic diversity of the species by complementing the genetic profiles and potential breeding scenarios of those already in captivity. Any pygmy rabbits that are not considered essential to the captive breeding program will be left in the wild, and ongoing management to protect this portion of the population will continue.

Pygmy rabbits may experience significant mortality due to increased susceptibility to wild fires if fire breaks located within their habitat are not properly maintained. These firebreaks need to be maintained before reproductive behavior is exhibited and especially prior to young of the year being born as early as mid-April.

Delay in the WDFW's planned activities due to the 30-day public comment period could jeopardize the success of the captive breeding program and, ultimately, the long-term security of the pygmy rabbit.

Dated: March 20, 2002.
Rowan W. Gould,
Regional Director, Region 1, Portland, Oregon.

[FR Doc. 02-8021 Filed 4-2-02; 8:45 am]

BILLING CODE 4310-55-M